DEPARTMENT OF HEALTH AND HUMAN SERVICES

Centers for Disease Control and Prevention

Board of Scientific Counselors, National Center for Injury Prevention and Control (BSC, NCIPC); Notice of Charter Renewal; Correction

Notice is hereby given of a change in the Charter Renewal of the Board of Scientific Counselors, National Center for Injury Prevention and Control (BSC, NCIPC), Notice of Charter Renewal which was published in the Federal Register on November 24, 2017, Volume 82, Number 225, page 55843.

The name of the committee should read as follows: Board of Scientific Counselors, National Center for Injury Prevention and Control (BSC, NCIPC) and the Summary section should read as follows:

SUMMARY: This gives notice under the Federal Advisory Committee Act of October 6, 1972, that the Board of Scientific Counselors, National Center for Injury Prevention and Control (BSC, NCIPC), Centers for Disease Control and Prevention, Department of Health and Human Services, has been renewed for a 2-year period through November 5, 2019.

FOR FURTHER INFORMATION CONTACT: Gwendolyn H. Cattledge, Ph.D., M.S.E.H., Deputy Associate Director for Science, NCIPC, CDC, 4770 Buford Highway NE, Mailstop F-63, Atlanta, GA 30341, Telephone (770) 488-1430. Email address: GCattledge@cdc.gov.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2017-27164 Filed 12-15-17; 8:45 am]

BILLING CODE 4163-18-P